FEDERAL COMMUNICATIONS COMMISSION

Unleashing the Educational Power of Broadband Symposium

AGENCY: Federal Communications Commission.

ACTION: Notice of public meeting.

SUMMARY: This notice advises interested persons that the Federal Communications Commission is holding a symposium exploring the educational power of broadband. A news release announcing the event was released on September 8, 2004 and an expanded release with an agenda was released on September 29, 2004, both of which were posted on the Commission's website.

DATES: Wednesday, October 6, 2004, 9 a.m., to 4 p.m.

ADDRESSES: Interested persons may join the meeting at the Federal Communications Commission, Commission Meeting Room, Room TW-A402 and TW-A442, 445 12th St. SW., Washington, DC 20554.

FOR FURTHER INFORMATION CONTACT: Sarah Whitesell, 202-418-1941, Sarah.Whitesell@fcc.gov. Press Contact, Meribeth McCarrick, (202) 418-0654, Meribeth.McCarrick@fcc.gov.

SUPPLEMENTARY INFORMATION: The purpose of the meeting is to explore ways to use broadband to facilitate learning in schools, libraries and the home. Among the presenters will be participants in the Schools and Libraries Universal Service program, also called “e-rate,” which was established as part of the Telecommunications Act of 1996 to provide affordable telecommunications services for all eligible schools and libraries, especially those in rural and economically disadvantaged areas. Speakers will also include teachers and librarians with first-hand experience using digital resources and assessing their impact on learning. The Federal Communications Commission will attempt to accommodate as many people as possible. However, admittance will be limited to the seating available. A live RealAudio feed will be available over the Internet; information on how to tune in can be found at the Commission's Web site http://www.fcc.gov.

Federal Communications Commission.
Marlene H. Dortch,
Secretary.

[FR Doc. 04-22475 Filed 10-4-04; 8:45 am]

BILLING CODE 6712-01-P